DEPARTMENT OF THE INTERIOR

Bureau of Indian Affairs

[223A2100DD/AAKC001030/A0A501010.999900]

Draft Environmental Impact Statement for the Coquille Indian Tribe Fee-to-Trust and Gaming Facility Project, City of Medford, Jackson County, Oregon

AGENCY: Bureau of Indian Affairs, Interior.

ACTION: Notice of availability.

SUMMARY: This notice advises the public that the Bureau of Indian Affairs (BIA) as lead agency intends to file a draft environmental impact statement (DEIS) with the U.S. Environmental Protection Agency (EPA) for the Coquille Indian Tribe fee-to-trust and Gaming Facility Project, City of Medford, Jackson County, Oregon. This notice also announces that the DEIS is now available for public review and that a virtual public hearing will be held to receive comments on the DEIS.

DATES: Comments on the DEIS must arrive within 45 days after the EPA publishes its Notice of Availability in the Federal Register. The date and time of the virtual public hearing on the DEIS will be announced at least 15 days in advance through a notice to be published in a local newspaper (the Medford Mail Tribune) and online at www.coquille-eis.com.

ADDRESSES: You may mail or hand-deliver written comments to:

• By mail to: Mr. Bryan Mercier, Northwest Regional Director, Bureau of Indian Affairs, Northwest Region, 911 Northeast 11th Avenue, Portland, Oregon 97232. Please include your name, return address, and the caption: “DEIS Comments, Coquille Indian Tribe Fee-to-Trust and Gaming Facility Project,” on the first page of your written comments.

• By email to: Mr. Brian Haug, Bureau of Indian Affairs, at CoquilleCasinoEIS@bia.gov, using “DEIS Comments, Coquille Tribe Medford Gaming Facility Project” as the subject of your email.

The DEIS will be available for public review at:

• Medford Branch Library of Jackson County Library Services, 205 South Central Avenue, Medford, Oregon 97501; and www.coquille-eis.com.

FOR FURTHER INFORMATION CONTACT: Mr. Brian Haug, Bureau of Indian Affairs, Northwest Region, (503) 231-6780 (Office), (503) 231-2201 (Fax), CoquilleCasinoEIS@bia.gov.

SUPPLEMENTARY INFORMATION: Public review of the DEIS is part of the administrative process for BIA's evaluation of the Tribe's application to acquire approximately 2.4 acres of land in trust in the City of Medford, Jackson County, Oregon, for gaming purposes. Pursuant to Council on Environmental Quality (CEQ) National Environmental Policy Act (NEPA) regulations (40 CFR 1506.10), the publication of the Notice of Availability by the EPA in the Federal Register initiates the 45-day public comment period. A Notice of Intent to prepare an environmental impact statement was published in the Medford Mail Tribune on January 16 and 18, 2015, and the Federal Register on January 15, 2015 (80 FR 2120). The BIA held a public scoping meeting for the project on February 3, 2015, at the North Medford High School, Medford, Oregon.

Background

The Tribe requested that the Department acquire 2.4 acres of land in trust City of Medford, Jackson County, Oregon, for gaming purposes. The Tribe's Proposed Project consists of the retrofit and remodel of an existing bowling alley on the proposed trust parcel into a 30,300-square foot gaming facility with class II gaming machines, food and beverage facilities, administrative space, associated parking on adjacent fee land, and ancillary facilities. Access to the site would be provided via two existing driveways along Highway 99.

The following alternatives are considered in the DEIS: (1) Proposed Project; (2) Phoenix Site (alternative site); (3) Expansion of the Tribe's existing Mill Casino; (4) No Action/No Development. Environmental issues addressed in the DEIS include geology and soils, water resources, air quality, biological resources, cultural and paleontological resources, socioeconomic conditions (including environmental justice), transportation and circulation, land use, public services, noise, hazardous materials, aesthetics, cumulative effects, and indirect and growth inducing effects.

Public Comment Availability

Comments, including names and addresses of respondents, will be included as part of the administrative record and responses to comments on the Final EIS. Before including your address, phone number, email address, or other personal identifying information in your comment, you should be aware that your entire comment—including your personal identifying information—may be made publicly available at any time. While you can ask in your comment that your personal identifying information be withheld from public review, the BIA cannot guarantee that this will occur.

Authority

This notice is published in accordance with section 1503.1 of the Council on Environmental Quality regulations (40 CFR 1500 et seq.) and the Department of the Interior regulations (43 CFR part 46) implementing the procedural requirements of the NEPA (42 U.S.C. 4321 et seq.), and in accordance with the exercise of authority delegated to the Assistant Secretary—Indian Affairs by part 209 of the Department Manual.

Bryan Newland,
Assistant Secretary—Indian Affairs.

[FR Doc. 2022-25727 Filed 11-23-22; 8:45 am]

BILLING CODE 4337-15-P